DEPARTMENT OF COMMERCE

International Trade Administration

[A-570-878]

Saccharin from the People's Republic of China: Notice of Initiation of Changed Circumstances Review

AGENCY: Import Administration, International Trade Administration, Department of Commerce.

SUMMARY: The Department of Commerce (“Department”) has received information sufficient to warrant initiation of a changed circumstances review of the antidumping duty order on saccharin from the People's Republic of China (“PRC”). Based upon a request filed by PMC Specialties Group, Inc. (“PMCSG”), the Department is initiating a changed circumstances review to determine whether the domestic industry is in fact no longer interested in this order and to potentially revoke the antidumping duty order in this proceeding.

EFFECTIVE DATE: July 23, 2009.

FOR FURTHER INFORMATION CONTACT: Giselle Cubillos or Charles Riggle, AD/CVD Operations, Office 8, Import Administration, International Trade Administration, U.S. Department of Commerce, 14th Street and Constitution Avenue, NW, Washington, DC 20230; telephone: (202) 482-1778 and (202) 482-0650, respectively.

SUPPLEMENTARY INFORMATION:

Background

On July 9, 2003, the Department published in the Federal Register an antidumping duty order on saccharin from the PRC.¹ On June 8, 2009, the Department published the continuation of antidumping duty order on saccharin from the PRC.² On June 4, 2009, the Department received a request on behalf of PMCSG for a changed circumstances review to revoke the antidumping duty order on saccharin from the PRC. As part of its submission, PMCSG requested that the Department combine the notice of initiation with a preliminary determination to revoke the Saccharin Order. On July 9, 2009, the Department received a letter opposing the request for a changed circumstances review from Kinetic Industries (“Kinetic”).³ Kinetic claimed that it produces saccharin through a third party toller in the United States and that both parties, Kinetic and its toll producer, are interested parties as domestic producers of saccharin. Both Kinetic and its toll producer requested that the Department not issue an expedited preliminary determination in this changed circumstances review.

¹ See Notice of Antidumping Duty Order: Saccharin from the People's Republic of China, 68 FR 40906 (June 9, 2003) (“Saccharin Order”).

² See Continuation of Antidumping Duty Order on Saccharin from the People's Republic of China, 74 FR 27089 (June 8, 2009).

³ Although Kinetic filed a letter opposing PMCSG's request for changed circumstances review on July 2, 2009, the Department rejected that letter because it did not contain the appropriate certifications. The Department requested that Kinetic re-file its submission by July 10, 2009. On July 9, 2009, Kinetic refiled its submission with the appropriate certifications.

Scope of the Order

The product covered by this antidumping duty order is saccharin. Saccharin is defined as a non-nutritive sweetener used in beverages and foods, personal care products such as toothpaste, table top sweeteners, and animal feeds. It is also used in metalworking fluids. There are four primary chemical compositions of saccharin: (1) Sodium saccharin (American Chemical Society Chemical Abstract Service (“CAS”) Registry 128-44-9); (2) calcium saccharin (CAS Registry 6485-34-3); (3) acid (or insoluble) saccharin (CAS Registry 81-07-2); and (4) research grade saccharin. Most of the U.S.-produced and imported grades of saccharin from the PRC are sodium and calcium saccharin, which are available in granular, powder, spray-dried powder, and liquid forms. The merchandise subject to this order is currently classifiable under subheading 2925.11.00 of the Harmonized Tariff Schedule of the United States (“HTSUS”) and includes all types of saccharin imported under this HTSUS subheading, including research and specialized grades. Although the HTSUS subheading is provided for convenience and customs purposes, the Department's written description of the scope of this order remains dispositive.

Initiation of Changed Circumstances Review

Pursuant to section 751(d) of the Tariff Act of 1930, as amended (the “Act”), the Department may revoke an antidumping or countervailing duty order, in whole or in part, based on a review under section 751(b) of the Act (i.e., a changed circumstances review) where the Department determines that producers accounting for substantially all of the production of the domestic like product have expressed a lack of interest in the continuance of an order. Section 751(b)(1) of the Act requires a changed circumstances review to be conducted upon receipt of information concerning, or a request from an interested party for a review of, an antidumping duty order, which shows changed circumstances sufficient to warrant a review of the order. Additionally, section 751(b)(4) of the Act and 19 CFR 351.216(c) state that the Department shall not conduct a review less than 24 months after the date of publication of notice of the final determination in the original investigation. As noted above, PMCSG filed its request for a changed circumstances review on June 4, 2009, well over 24 months after the publication of the final determination and order. See Saccharin Order. The Department has determined that the request submitted by PMCSG is sufficient to warrant a changed circumstances review.

In accordance with sections 751(d)(1) and 782(h)(2) of the Act, and 19 CFR 351.216 and 351.222(g), a domestic producer of the like product, PMCSG, claims changed circumstances exist and has made an affirmative statement that no further interest exists in continuing the order on saccharin. PMCSG further alleges that it represents 100 percent of the domestic industry and that it accounts for all of the production of the domestic like product to which the order pertains. Based upon the statement of no interest by PMCSG, the Department has determined that there is sufficient information to conduct a changed circumstances review. However, in light of the opposition to the potential revocation, and Kinetic's claim to be a domestic producer of the like product, the Department does not have sufficient information on the record of this changed circumstances review to determine that PMCSG accounts for substantially all (i.e., at least 85 percent) of the production of the domestic like product. Accordingly, we are initiating a changed circumstances review, but will not conduct an expedited changed circumstances review and preliminary determination, pursuant to 19 CFR 351.221(c)(3)(ii). The Department intends to issue questionnaires to Kinetic, the third party toller of Kinetic's saccharin, and PMCSG to solicit relevant information and fully evaluate the request to revoke the antidumping duty order on saccharin from the PRC as well as the arguments against this revocation.

The Department will issue questionnaires requesting additional information for the review and will publish in the Federal Register a notice of the preliminary results of the antidumping duty changed circumstances review, in accordance with 19 CFR 351.221(b)(2) and (4), and 19 CFR 351.221(c)(3)(i). That notice will set forth a description of any action proposed. Pursuant to 19 CFR 351.221(b)(4)(ii), interested parties will have an opportunity to comment on the preliminary results of review. In accordance with 19 CFR 351.216(e), the Department intends to issue the final results of its antidumping duty changed circumstances review not later than 270 days after the date on which this review is initiated.

This notice is published in accordance with sections 751(b)(1) and 777(i) of the Act and 19 CFR 351.216.

Dated: July 15, 2009.
John M. Andersen,
Acting Deputy Assistant Secretary for Antidumping and Countervailing Duty Operations.

[FR Doc. E9-17576 Filed 7-22-04; 8:45 am]

BILLING CODE 3510-DS-S